DEPARTMENT OF AGRICULTURE

Animal and Plant Health Inspection Service

7 CFR Part 319

[Docket No. 05-003-2]

Importation of Peppers From Certain Central American Countries; Correction

AGENCY: Animal and Plant Health Inspection Service, USDA.

ACTION: Proposed rule; correction

SUMMARY: We are correcting two errors in a proposed rule that would amend the fruits and vegetables regulations to allow certain types of peppers grown in approved registered production sites in Costa Rica, El Salvador, Guatemala, Honduras, and Nicaragua to be imported into the United States without treatment. The proposed rule was published in the Federal Register on October 12, 2005 (70 FR 59283-59290, Docket No. 05-003-1).

FOR FURTHER INFORMATION CONTACT: Ms. Donna L. West, Senior Import Specialist, Commodity Import Analysis and Operations, PPQ, APHIS, 4700 River Road Unit 133, Riverdale, MD 20737-1228; (301) 734-8758.

SUPPLEMENTARY INFORMATION: On October 12, 2005, we published in the Federal Register (70 FR 59283-59290, Docket No. 05-003-1) a proposed rule that would amend the fruits and vegetables regulations in 7 CFR part 319 to allow certain types of peppers grown in approved registered production sites in Costa Rica, El Salvador, Guatemala, Honduras, and Nicaragua to be imported into the United States without treatment.

In the supplementary information section of the proposed rule, we stated that Guatemala and Honduras contained areas that had been determined to be free of the Mediterranean fruit fly (Medfly) in accordance with § 319.56-2(f). This information was incorrect. The Department of Peten in Guatemala is currently the only Medfly-free area in the five Central American countries covered by the proposed rule.

Also in the supplementary information of the proposed rule, under the heading “Paperwork Reduction Act,” we stated that the estimated total annual burden on respondents was 2,299 hours. This number was incorrect. It should have read 2,999 hours. This document corrects these errors.

Correction

In FR Doc. 05-20388, published on October 12, 2005 70 FR 59283-59290, make the following corrections: On page 59285, second column, fourth paragraph, in the second sentence, correct “Honduras and Guatemala are the only Central American countries covered by this proposal that contain such areas.” to read “Guatemala is the only Central American country covered by this proposal that contains such areas.” On page 59288, second column, eighth paragraph, in the first sentence, correct “2,299” to read “2,999'.

Done in Washington, DC, this 1st day of November 2005.
Elizabeth E. Gaston,
Acting Administrator, Animal and Plant Health Inspection Service.

[FR Doc. 05-22176 Filed 11-4-05; 8:45 am]

BILLING CODE 3410-34-P